DEPARTMENT OF COMMERCE

Census Bureau

Agency Information Collection Activities; Submission to the Office of Management and Budget (OMB) for Review and Approval; Comment Request; State and Local Government Finance and Public Employment and Payroll Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2023 during a 60-day comment period. This notice allows for an additional 30 days for public comments.

Agency: U.S. Census Bureau, Department of Commerce.

Title: State and Local Government Finance and Public Employment and Payroll Forms.

OMB Control Number: 0607-0585.

Form Number(s): E-1,E-2,E-3,E-4,E-5,E-6,E-7,E-8,E-9,E-10,F-5,F-11,F-12,F-13,F-28,F-29,F-32.

Type of Request: Regular submission, request for an extension, without change, of a currently approved collection.

Number of Respondents: 29,609.

Average Hours per Response: 1 hour and 50 minutes.

Burden Hours: 54,306.

Needs and Uses: The Census Bureau is requesting extension of the clearance for the Annual Survey of Public Employment & Payroll and the Annual Survey of State and Local Government Finances. The Annual Survey of Public Employment & Payroll collects State and local government data by function for full-time and part-time employees and payroll. The Annual Survey of State and Local Government Finances collect State and local government finance data including government revenue, expenditure, debt, assets, and pension systems. Data are collected for all agencies, departments, and institutions of the fifty State governments and for a sample of all local governments (counties, municipalities, townships, and special districts). Data for school districts are collected under a separate survey and are not included here.

In years ending with 2 and 7 this collection is conducted as a part of the Census of Governments. There is no difference in content collected between a Census of Governments year and non-Census year. The only difference is that in non-Census years, we only collect from a sample of the universe of State and local governments, whereas during a Census of Governments year the entire universe is collected. The upcoming three years of this clearance extension will cover the collections for fiscal years of 2023, 2024, and 2025, all of which are non-Census years.

The data are released as part of the State and Local Government Finance and Public Employment & Payroll statistical series. The collections also produce individual data products that focus on State governments, local governments, and public pensions in greater detail than the combined financial and employment series as a by-product of their collections for the combined data series. The Census Bureau provides these data to the Bureau of Economic Analysis to develop the public sector components of the National Income and Product Accounts and for constructing the functional payrolls in the public sector of the Gross Domestic Product, payroll being the single largest component of current operations. The Census Bureau also provides these data to the Federal Reserve Board for use in the Flow of Funds Accounts. Other Federal agencies that make use of the data include the Council of Economic Advisers, the Agency for Healthcare Research and Quality, the Government Accountability Office, and the Department of Justice. State and local governments and related organizations, public policy groups, public interest groups, private research organizations, and private sector businesses also use these data.

Frequency: Annually.

Respondent's Obligation: Voluntary.

Legal Authority: Title 13 U.S.C., Sections 161 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0585.

Sheleen Dumas,
Department PRA Clearance Officer, Office of the Under Secretary for Economic Affairs, Commerce Department.

[FR Doc. 2024-05560 Filed 3-14-24; 8:45 am]

BILLING CODE 3510-07-P